DEPARTMENT OF COMMERCE

Submission for OMB Review; Comment Request

Procedures for Submitting Request for Exclusions From the Section 232 National Security Adjustments of Imports of Aluminum and Steel

The Department of Commerce will submit to the Office of Management and Budget (OMB) for clearance the following proposal for collection of information under the provisions of the Paperwork Reduction Act (44 U.S.C. Chapter 35).

Agency: Bureau of Industry and Security.

Title: Proposed Information Collection; Comment Request; Procedures for Submitting Request for Exclusions from the Section 232 National Security Adjustments of Imports of Aluminum and Steel

Form Number(s): N/A.

OMB Control Number: 0694-0139.

Type of Review: Regular submission.

Estimated Total Annual Burden Hours: 344,532.

Estimated Number of Respondents: 86,133.

Estimated Time per Response: 4 hours.

Needs and Uses: This collection of information supports Presidential Proclamations 9704 Adjusting Imports of Aluminum into the United States and 9705 Adjusting Imports of Steel into the United States. On March 8, 2018, the President issued Proclamations 9704 and 9705 concurring with the findings of the two investigation reports submitted by the Secretary of Commerce pursuant to section 232 of the Trade Expansions Act of 1962 (19 U.S.C. 1862) and determining that adjusting imports through the imposition of duties on aluminum and steel is necessary so that imports of aluminum and steel will no longer threaten to impair the national security.

Affected Public: Business or other for-profit organizations.

Frequency: On Occasion.

Respondent's Obligation: Voluntary.

This information collection request may be viewed at reginfo.gov, http://www.reginfo.gov/public/. Follow the instructions to view Department of Commerce collections currently under review by OMB.

Written comments and recommendations for the proposed information collection should be sent within 30 days of publication of this notice to OIRA_Submission@omb.eop.gov.

Sheleen Dumas,
Departmental Lead PRA Officer, Office of the Chief Information Officer.

[FR Doc. 2018-18281 Filed 8-23-18; 8:45 am]

BILLING CODE 3510-33-P